DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons whose property and interests in property have been unblocked and who have been removed from the Specially Designated Nationals and Blocked Persons List.

DATES: See SUPPLEMENTARY INFORMATION section for applicable date(s).

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://ofac.treasury.gov).

Notice of OFAC Actions

On June 29, 2023, OFAC determined that the property and interests in property subject to U.S. jurisdiction of the following persons are unblocked and they have been removed from the SDN List.

Individual

1. APIKIAN, Philipp Paul Vartan; DOB 15 Jan 1969; POB Geneva, Switzerland; citizen Switzerland; Gender Male; Passport X0062329 (Switzerland) issued 27 Feb 2012 expires 26 Feb 2022 (individual) [VENEZUELA-EO13850].

Entity

1. SWISSOIL TRADING SA, Rue Pierre-Fatio 15, Geneva 1204, Switzerland; website https://www.swissoil.trading/; V.A.T. Number CHE-104.851.121 (Switzerland) [VENEZUELA-EO13850].

Dated: July 28, 2023.
Andrea M. Gacki,
Director, Office of Foreign Assets Control, U.S. Department of the Treasury.

[FR Doc. 2023-16439 Filed 8-1-23; 8:45 am]

BILLING CODE 4810-AL-P